DEPARTMENT OF COMMERCE

International Trade Administration

[A-570-985]

Xanthan Gum From the People's Republic of China: Final Results of Antidumping Duty Administrative Review and Final Determination of No Shipments; 2022-2023

AGENCY: Enforcement and Compliance, International Trade Administration, Department of Commerce.

SUMMARY: The U.S. Department of Commerce (Commerce) determines that Neimenggu Fufeng Biotechnologies Co., Ltd. (aka Inner Mongolia Fufeng Biotechnologies Co., Ltd.), Shandong Fufeng Fermentation Co., Ltd., and Xinjiang Fufeng Biotechnologies Co., Ltd. (collectively, Fufeng) and Deosen Biochemical (Ordos) Ltd. (Deosen) sold xanthan gum from the People's Republic of China (China) at less than normal value during the period of review (POR), July 1, 2022, through June 30, 2023. Additionally, we find that Jianlong Biotechnology Co., Ltd. (Jianlong) and CP Kelco (Shandong) Biological Company Limited (CP Kelco (Shandong)) are eligible for a separate rate. Commerce also determines that two companies under review, Shanghai Smart Chemicals Co. Ltd. (Shanghai Smart) and Deosen Biochemical Ltd., had no shipments during the POR.

DATES: Applicable May 27, 2025.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On August 23, 2024, Commerce published the Preliminary Results and invited interested parties to comment.¹ Commerce extended the deadline for these final results by 60 days until February 19, 2025.² On December 9, 2024, Commerce tolled certain deadlines in this review by 90 days.³ For details regarding the events that occurred subsequent to the Preliminary Results, see the Issues and Decision Memorandum.⁴ Commerce conducted this administrative review in accordance with section 751(a) of the Tariff Act of 1930, as amended (the Act).

¹ See Xanthan Gum from the People's Republic of China: Preliminary Results of Antidumping Duty Administrative Review, Rescission, in Part, and Preliminary Determination of No Shipments; 2022-2023, 89 FR 68136 (August 23, 2024) (Preliminary Results), and accompanying Preliminary Decision Memorandum (PDM).

² See Memorandum, “Extension of Deadline for Final Results of Antidumping Duty Administrative Review,” dated December 2, 2024.

³ See Memorandum, “Tolling of Deadlines for Antidumping and Countervailing Duty Proceedings,” dated December 9, 2024.

⁴ See Memorandum, “Issues and Decision Memorandum for the Final Results of the Administrative Review of the Antidumping Duty Order on Xanthan Gum from the People's Republic of China; 2022-2023,” dated concurrently with, and hereby adopted by, this notice (Issues and Decision Memorandum).

Scope of the Order ⁵

⁵ See Xanthan Gum from the People's Republic of China: Amended Final Determination of Sales at Less Than Fair Value and Antidumping Duty Order, 78 FR 43143 (July 19, 2013) (Order).

The product covered by the Order includes dry xanthan gum, whether or not coated or blended with other products. For a full description of the scope of the Order, see the Issues and Decision Memorandum.

Analysis of Comments Received

All issues raised in the case and rebuttal briefs are addressed in the Issues and Decision Memorandum. A list of the issues parties raised and to which we responded in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, Commerce determined that Shanghai Smart and Deosen Biochemical Ltd. did not have shipments of subject merchandise during the POR.⁶ As we received no information to contradict our preliminary determination with respect to Deosen Biochemical Ltd. and Shanghai Smart, we continue to find that they made no shipments of subject merchandise to the United States during the POR.

⁶ See Preliminary Results, 89 FR at 68136.

Changes Since the Preliminary Results

Based on a review of the record, findings at verification, and comments received from interested parties regarding our Preliminary Results, we made certain changes to the preliminary weighted-average dumping margin calculation for Deosen. For further discussion of these changes, see the Issues and Decision Memorandum.

Separate Rates

No parties commented on our preliminary separate rate determinations. Therefore, we have continued to grant separate rate status to Fufeng, Deosen, and two other companies/company groups, Jianlong and CP Kelco (Shandong).

Rate for Non-Examined Separate Rate Respondents

The statue and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins calculated for individually-examined respondents, excluding dumping margins that are zero, de minimis, or based entirely on facts available. When the rates for individually examined companies are all zero, de minimis, or based entirely on facts available, section 735(c)(5)(B) of the Act provides that Commerce may use “any reasonable method” to establish the all-others rate. In this review, Commerce preliminarily found a zero rate for Fufeng. Therefore, the only rate that is not zero, de minimis or based entirely on facts otherwise available is the rate calculated for Deosen. Consequently, we have assigned the separate rate respondents a rate equal to the calculated weighted-average dumping margin for the mandatory respondent whose rate was not zero, de minimis, or based entirely on facts available (i.e., the weighted-average dumping margin for Deosen). This approach is consistent with the intent of, and our use of, section 735(c)(5)(A) of the Act.⁷

⁷ See, e.g., Certain Frozen Warmwater Shrimp from the Socialist Republic of Vietnam: Final Results and Final Partial Rescission of Antidumping Duty Administrative Review, 76 FR 56158, 56160 (September 12, 2011).

China-Wide Entity

Under Commerce's policy regarding the conditional review of the China-wide entity,⁸ the China-wide entity will not be under review unless a party specifically requests, or Commerce self-initiates, a review of the entity. Because no party requested a review of the China-wide entity in this review, the entity is not under review, and the entity's rate (i.e., 154.07 percent) is not subject to change.⁹ Consistent with the Preliminary Results, we have continued to deny separate rate status to the companies identified in Appendix II.¹⁰

⁸ See Antidumping Proceedings: Announcement of Change in Department Practice for Respondent Selection in Antidumping Duty Proceedings and Conditional Review of the Nonmarket Economy Entity in NME Antidumping Duty Proceedings, 78 FR 65963 (November 4, 2013).

⁹ See Order, 78 FR at 43144.

¹⁰ See Appendix II; see also Preliminary Results PDM at 11.

Final Results of Review

We determine that the following estimated dumping margins exist for the period July 1, 2022, through June 30, 2023:

¹¹ Commerce continues to find that Neimenggu Fufeng Biotechnologies Co., Ltd. (aka Inner Mongolia Fufeng Biotechnologies Co., Ltd.), Shandong Fufeng Fermentation Co., Ltd., and Xinjiang Fufeng Biotechnologies Co., Ltd. are a single entity. See Xanthan Gum from the People's Republic of China: Preliminary Results of Antidumping Duty Administrative Review and Preliminary Determination of No Shipments; 2013-2014, 80 FR 47464 (August 7, 2015), and accompanying PDM at 6, unchanged in Xanthan Gum from the People's Republic of China: Final Results of Antidumping Duty Administrative Review; 2013-2014, 82 FR 11428 (February 23, 2017).

¹² We have previously referenced Jianlong Biotechnology Co., Ltd. as formerly Inner Mongolia Jianlong Biochemical Co., Ltd. Although we initiated on both company names in this administrative review, Inner Mongolia Jianlong Biotechnology Co., Ltd. did not file a separate rate application or certification. Therefore, we determine Inner Mongolia Jianlong Biotechnology Co., Ltd. is not eligible for a separate rate for purposes of this review.

Exporter | Weighted-average dumping margin (percent)
Deosen Biochemical (Ordos) Ltd | 6.46
Neimenggu Fufeng Biotechnologies Co., Ltd. (aka Inner Mongolia Fufeng Biotechnologies Co., Ltd.)/Shandong Fufeng Fermentation Co., Ltd./Xinjiang Fufeng Biotechnologies Co., Ltd.¹¹ | 0.00
Non-Individually Examined Companies Receiving a Separate Rate
Jianlong Biotechnology Co., Ltd.¹² | 6.46
CP Kelco (Shandong) Biological Company Limited | 6.46

Disclosure

Pursuant to 19 CFR 351.224(b), we will disclose the calculations we performed for these final results to the parties to this proceeding within five days of the publication of this notice in the Federal Register.

Assessment Rates

Pursuant to section 751(a)(2)(C) of the Act and 19 CFR 351.212(b)(1), Commerce will determine, and U.S. Customs and Border Protection (CBP) shall assess, antidumping duties on all appropriate entries of subject merchandise covered by the final results of this review. Commerce intends to issue assessment instructions to CBP no earlier than 35 days after the publication date of these final results in the Federal Register. If a timely summons is filed at the U.S. Court of International Trade, the assessment instructions will direct CBP not to liquidate relevant entries until the time for parties to file a request for a statutory injunction has expired (i.e., within 90 days of publication).

For Deosen, Commerce will calculate importer-specific assessment rates for antidumping duties, in accordance with 19 CFR 351.212(b)(1). Where the respondent reported reliable entered values, Commerce intends to calculate importer-specific ad valorem assessment rates by aggregating the amount of dumping calculated for all U.S. sales to the importer and dividing this amount by the total entered value of the merchandise sold to the importer.¹³ Where the respondent did not report entered values, Commerce will calculate importer-specific assessment rates by dividing the amount of dumping for reviewed sales to the importer by the total quantity of those sales. Commerce will calculate an estimated ad valorem importer-specific assessment rate to determine whether the per-unit assessment rate is de minimis (i.e., 0.50 percent or below); however, Commerce will use the per-unit assessment rate where entered values were not reported.¹⁴ Where an importer-specific ad valorem assessment rate is not zero or de minimis, Commerce will instruct CBP to collect the appropriate duties at the time of liquidation. Where an importer-specific ad valorem assessment rate is zero or de minimis, Commerce will instruct CBP to liquidate appropriate entries without regard to antidumping duties.¹⁵

¹³ See 19 CFR 351.212(b)(1).

¹⁴ Id.

¹⁵ See 19 CFR 351.106(c)(2).

For Fufeng, because its final weighted-average dumping margin is zero, Commerce will instruct CBP to liquidate the appropriate entries without regard to antidumping duties.¹⁶

¹⁶ Id.

For entries submitted by an exporter individually examined during this review that were not reported in the U.S. sales database, but that entered under the case number of that exporter (i.e., at the individually-examined exporter's cash deposit rate), Commerce will instruct CBP to liquidate such entries at the China-wide entity rate (i.e., 154.07 percent).¹⁷

¹⁷ See Order, 78 FR at 43144.

For respondents not individually examined in this administrative review that qualified for a separate rate (i.e., CP Kelco (Shandong) and Jianlong), the assessment rate will be equal to the weighted-average dumping margin assigned to the respondent (i.e., Deosen) in the final results of this review.¹⁸

¹⁸ See Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

For the respondents not eligible for a separate rate, as listed in Appendix II, that are part of the China-wide entity, we intend to instruct CBP to apply an ad valorem assessment rate of 154.07 percent (i.e., the China-wide entity rate) to all entries of subject merchandise exported by these companies during the POR.

Additionally, for the above companies for which we made final no shipment determinations, any suspended entries that entered under that exporter's case number will be liquidated at the China-wide entity rate.

Cash Deposit Requirements

Pursuant to section 751(a)(2)(C) of the Act, the cash deposit requirements effective for shipments of the subject merchandise entered, or withdrawn from warehouse, for consumption on or after the publication date of the final results of review will be as follows: (1) for the exporters listed in the table above, the cash deposit rate will be the rate indicated; (2) for previously investigated or reviewed exporters of subject merchandise not listed in the table above that have separate rates, the cash deposit rate will continue to be the most recently published exporter-specific rate; (3) for all China exporters of subject merchandise that have not been found to be entitled to a separate rate, the cash deposit rate will be the rate previously established for the China-wide entity (154.07 percent); and (4) for all non-China exporters of subject merchandise which have not received their own rate, the cash deposit rate will be the rate applicable to the China exporter that supplied that non-China exporter. The cash deposit requirements, when imposed, shall remain in effect until further notice.

Notification of Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order (APO)

This notice also serves as a final reminder to parties subject to an APO of their responsibility to return or destroy proprietary information disclosed under an APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: May 20, 2025.
Abdelali Elouaradia,
Deputy Assistant Secretary for Enforcement and Compliance.

Appendix I

List of Topics Discussed in the Issues and Decision Memorandum

I. Summary

II. Background

III. Scope of the Order

IV. Use of Facts Otherwise Available and Application of Adverse Inferences

V. Changes to the Preliminary Results

VI. Discussion of the Issues

Comment 1: Whether Deosen USA's Entered Value Should be Used in the Inventory Carrying Cost Calculation

Comment 2: Whether Deosen Used the Correct Product Name in its U.S. Sales Database

Comment 3: Whether Deosen Reported Correct Ownership Information for the POR

Comment 4: Whether Deosen Submitted a Correct Sales Reconciliation for Deosen USA

Comment 5: Whether Deosen Properly Excluded a U.S. Sale from the U.S. Sales Database

Comment 6: Whether Deosen Reported the Correct Date of Shipment for its U.S. Sales

Comment 7: Whether Deosen Properly Reported Deosen USA's U.S. Inland Freight from Toll Processor for Agglomeration to the Warehouse

Comment 8: Whether Deosen Properly Reported its Accounting System and Branch Office

Comment 9: Whether Deosen Properly Reported its Packing Inputs

Comment 10: Whether Deosen Properly Reported Caustic Soda in the Production Process

Comment 11: Whether Commerce Should Adjust the Surrogate Value for Coal

Comment 12: Whether Commerce Should Adjust the Surrogate Value for Water

Comment 13: Whether Commerce Should Adjust the Surrogate Value for Labor

Comment 14: Whether Commerce Should Accept Deosen's Supplier Distances as Reported

Comment 15: Whether Commerce Should Reject Ajinomoto's Financial Statement

Comment 16: Whether Commerce Properly Applied the Cohen's d Test to Fufeng's U.S. Sales Database

Comment 17: Whether Commerce Should Deduct Certain Expenses from Fufeng's U.S. Price

Comment 18: Whether Commerce Should Deduct 301 Duties from Fufeng's U.S. Price

VII. Recommendation

Appendix II

Companies Determined To Be Part of the China-Wide Entity

(1) A.H.A International Co., Ltd.;

(2) East Chemsources Ltd.;

(3) Far East International Forwarding Company;

(4) Foodchem Biotech Pte. Ltd.;

(5) Greenhealth International Co., Ltd. (Hong Kong);

(6) Guangzhou Zio Chemical Co., Ltd.;

(7) Hangzhou Yuanjia Chemical Co., Ltd.;

(8) Hebei Xinhe Biochemical Co., Ltd.;

(9) Nanotech Solutions SDN BHD.;

(10) Pingxiang Omni Trading Co., Ltd.;

(11) Shaanxi Rainwood Biotech Co., Ltd.;

(12) Shanghai Tianjia Biochemical Co., Ltd.;

(13) Shanxi Reliance Chemicals Co., Ltd.;

(14) The TNN Development Limited;

(15) Tianjin Okay International Trading Co., Ltd.;

(16) Unibest Industrial Co., Ltd.; Unionchem Corp. Ltd.;

(17) Wanping Bio Chem Co., Ltd.;

(18) Weifang Hongyuan Chemical Co., Ltd.;

(19) Zhejiang Joston Machinery Company

[FR Doc. 2025-09451 Filed 5-23-25; 8:45 am]

BILLING CODE 3510-DS-P